DEPARTMENT OF EDUCATION

Office of Postsecondary Education; Overview Information; Training Program for Federal TRIO Programs (Training Program); Notice Inviting Applications for New Awards for Fiscal Year (FY) 2006

Catalog of Federal Domestic Assistance (CFDA) Number: 84.103A.

Dates: Applications Available: February 2, 2006.

Deadline for Transmittal of Applications: April 21, 2006.

Deadline for Intergovernmental Review: June 20, 2006.

Eligible Applicants: Institutions of higher education and other public and private nonprofit institutions and organizations.

Estimated Available Funds: $4,000,000.

Estimated Range of Awards: $300,000-$450,000.

Estimated Average Size of Awards: $425,000.

Maximum Award: We will reject any application that proposes a budget exceeding the maximum amount listed for each of the four absolute priorities, listed below, for a single budget period of 12 months:

• Priority 1: $450,000;

• Priority 2: $400,000;

• Priority 3: $450,000; and

• Priority 4: $400,000.

To be consistent with the goal of serving all regions of the country as provided in 34 CFR 642.33, successful applicants will be expected to provide training to at least 325 participants, unless we specifically approve another amount.

Estimated Number of Awards: 8-12.

Note: The Department is not bound by any estimates in this notice.

Project Period: 24 months.

Full Text of Announcement

I. Funding Opportunity Description

Purpose of Program: To improve the operation of projects funded under the Federal TRIO Programs, the Training Program provides grants to train staff and leadership personnel employed in, participating in, or preparing for employment in, projects funded under the TRIO Programs.

Priorities: In accordance with 34 CFR 75.105(b)(2)(iv) and 34 CFR 75.105(b)(2)(ii), these priorities are from section 402G(b) of the Higher Education Act of 1965, as amended (HEA), and the regulations for this program (34 CFR 642.34). Each successful applicant must provide at least one training session on each requisite topic listed within a specific priority that is tailored to the needs of TRIO staff with less than two years of TRIO project experience.

Each application must clearly identify the specific priority number for which a grant is requested, and must address each of the topics listed under that specific priority. An application for a grant under a specific priority should not include information concerning any other priority. For example, an application for a grant under Priority 1 should address only training to improve record keeping, reporting student and project performance, and evaluation of project performance as a means for designing and operating a model TRIO project.

Absolute Priorities: For FY 2006, these priorities are absolute priorities. Under 34 CFR 75.105(c)(3), we consider only applications that meet these priorities. These priorities are:

Priority 1. Training to improve: record keeping; reporting student and project performance; and, the evaluation of project performance in order to design and operate a model TRIO project.

Number of expected awards: 2-3.

Maximum award amount: $450,000.

Priority 2. Training on: Budget management and the legislative and regulatory requirements for operation of the Federal TRIO Programs.

Number of expected awards: 2-3.

Maximum award amount: $400,000.

Priority 3. Training on: Assessment of student needs; proven retention and graduation strategies; and the use of educational technology in order to design and operate a model TRIO project.

Number of expected awards: 2-3.

Maximum award amount: $450,000.

Priority 4. Training on: Student financial aid and college and university admissions policies and procedures.

Number of expected awards: 2-3.

Maximum award amount: $400,000.

Maximum number of applications for a priority: An applicant may submit only one application for a grant under each priority. If an applicant submits more than one application under a specific priority, we will accept only the first application submitted and we will reject all other applications.

Program Authority: 20 U.S.C. 1070a-11 and 1070a-17.

Applicable Regulations: (a) The Education Department General Administrative Regulations (EDGAR) in 34 CFR parts 74, 75, 77, 79, 80, 81, 82, 84, 85, 86, 97, 98 and 99.

(b) The regulations for this program in 34 CFR part 642.

Note: The regulations in 34 CFR part 79 apply to all applicants except federally recognized Indian tribes.

Note: The regulations in 34 CFR part 86 apply to institutions of higher education only.

II. Award Information

Type of Award: Discretionary grants.

Estimated Available Funds: $4,000,000.

Estimated Range of Awards: $300,000-$450,000.

Estimated Average Size of Awards: $425,000.

Maximum Award: We will reject any application that proposes a budget exceeding the maximum amount listed for each of the four absolute priorities, listed below, for a single budget period of 12 months:

• Priority 1: $450,000;

• Priority 2: $400,000;

• Priority 3: $450,000; and

• Priority 4: $400,000.

To be consistent with the goal of serving all regions of the country as provided in 34 CFR 642.33, successful applicants will be expected to provide training to at least 325 participants, unless we specifically approve another amount.

Estimated Number of Awards: 8-12.

Note: The Department is not bound by any estimates in this notice.

Project Period: 24 months.

III. Eligibility Information

1. Eligible Applicants: Institutions of higher education and other public and private nonprofit institutions and organizations.

2. Cost Sharing or Matching: This program does not involve cost sharing or matching.

3. Other: An applicant may submit only one application for a grant under each priority. Each application must clearly identify the specific priority number for which a grant is requested, and must address each of the topics listed under that specific priority. An application for a grant under a specific priority should not include information concerning any other priority.

To be consistent with the goal of serving all regions of the country as provided in 34 CFR 642.33, successful applicants will be expected to provide training to at least 325 participants, unless we specifically approve another amount.

Each successful applicant also must provide at least one training session on each listed topic in a specific priority that is tailored to the needs of new project directors and TRIO staff with less than two years of TRIO project experience.

IV. Application and Submission Information

1. Address to Request Application Package: Britt Jung, U.S. Department of Education, 1990 K Street, NW., suite 7000, Washington, DC 20006-8510. Telephone: (202) 502-7600 or by e-mail: TRIO@ed.gov.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this program.

Page Limit: The application narrative is where you, the applicant, address the selection criteria and priorities that reviewers use to evaluate your application. You must limit the section of the narrative that addresses the selection criteria and priorities to the equivalent of no more than 50 pages, using the following standards:

• A “page” is 8.5″ x 11″, on one side only, with 1″ margins at the top, bottom, and both sides. Page numbers and an identifier may be within the 1″ margin.

• Double space (no more than three lines per vertical inch) all text in the application narrative, except titles, headings, footnotes, quotations, references, captions and all text in charts, tables, and graphs.

• Use one of the following fonts: Times New Roman, Courier, Courier New, or Arial. Applications submitted in any other font (including Times Roman and Arial Narrow) will be rejected.

• Use 12-point font.

The page limit does not apply to Part I, the application for federal assistance face sheet (SF 424); Part II, the budget information summary form (ED Form 524); and Part IV, the assurances and certifications. The page limit also does not apply to a table of contents. If you include any attachments or appendices, these items will be counted as part of the Program Narrative (Part III) for purposes of the page limit requirement. You must include your complete response to the selection criteria and priorities in the program narrative.

We will reject your application if—

• You apply these standards and exceed the page limit; or

• You apply other standards and exceed the equivalent of the page limit.

3. Submission Dates and Times:

Applications Available: February 2, 2006.

Deadline for Transmittal of Applications: April 21, 2006.

Applications for grants under this program must be submitted electronically using the Grants.gov Apply site (Grants.gov). For information (including dates and times) about how to submit your application electronically or by mail or hand delivery if you qualify for an exception to the electronic submission requirement, please refer to Section IV. 6. Other Submission Requirements in this notice.

We do not consider an application that does not comply with the deadline requirements.

Deadline for Intergovernmental Review: June 20, 2006.

4. Intergovernmental Review: This program is subject to Executive Order 12372 and the regulations in 34 CFR part 79. Information about Intergovernmental Review of Federal Programs under Executive Order 12372 is in the application package for this program.

5. Funding Restrictions: We reference the regulations outlining funding restrictions in the Applicable Regulations section of this notice.

6. Other Submission Requirements: Applications for grants under this program must be submitted electronically unless you qualify for an exception to this requirement in accordance with the instructions in this section.

a. Electronic Submission of Applications. Applications for grants under the Training Program—CFDA Number 84.103A—must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Training Program at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at: http://e-Grants.ed.gov/help/GrantsgovSubmissionProcedures.pdf.

• To submit your application via Grants.gov, you must complete all the steps in the Grants.gov registration process (see http://www.grants.gov/GetStarted). These steps include (1) registering your organization, (2) registering yourself as an Authorized Organization Representative (AOR), and (3) getting authorized as an AOR by your organization. Details on these steps are outlined in the Grants.gov 3-Step Registration Guide (see http://www. grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you qualify for an exception to the electronic submission requirement, as described elsewhere in this section, and submit your application in paper format.

• You must submit all documents electronically including all information typically included on the Application for Federal Education Assistance (SF 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues with the Grants.gov System: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time, or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Dr. Linda Byrd-Johnson, U.S. Department of Education, 1990 K Street, NW., suite 7000, Washington, DC 20006-8510. FAX: (202) 502-7857.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.103A), 400 Maryland Avenue, SW., Washington, DC 20202-4260; or

By mail through a commercial carrier: U.S. Department of Education, Application Control Center—Stop 4260, Attention: (CFDA Number 84.103A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application, by hand, on or before the application deadline date, to the Department at the following address: U.S. Department of Education, Application Control Center, Attention: (CFDA Number 84.103A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the Application for Federal Education Assistance (SF 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program competition are in 34 CFR 642.31 and are listed in the application package.

Note: For the FY 2006 competition, the Secretary has identified “need” for training projects through the selection of four absolute priorities.

Therefore, the Secretary will consider that an applicant has satisfied the “need” criterion listed in 34 CFR 642.31(f) by applying for a grant under one of these priorities, and applicants do not have to address this criterion. The application package contains instructions on addressing the remaining selection criteria.

2. Review and Selection Process: A panel of non-federal readers will review each application in accordance with the selection criteria, pursuant to 34 CFR 642.30(a). The individual scores of the readers will be added and the sum divided by the number of readers to determine the reader score received in the review process. In accordance with 34 CFR 642.32, the Secretary will award prior experience points to applicants that have conducted a TRIO Training Program project within the last three fiscal years, based on their documented experience. Prior experience points, if any, will be added to the application's reader score to determine the total score for each application.

Pursuant to section 402A(c)(3) of the HEA, the Secretary will not make awards in the order of the scores received by the application in the review process and adjusted for prior experience. Instead, within each specific absolute priority for which a grant is requested, the Secretary will select an application for funding in the order of the reader score received by the application in the review process.

Within each specific priority, if there are insufficient funds to fund all applications at the next reader score, the Secretary will use the reader score received by the application in the review process, adjusted for prior experience, to make awards. In the event a tie still exists, the Secretary will select for funding the applicant that has the greatest capacity to provide training in all regions of the Nation in order to assure accessibility to the greatest number of prospective training participants, consistent with 34 CFR 642.33.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information as directed by the Secretary. You must also submit an annual performance report that provides the most current performance and financial expenditures information as specified by the Secretary in 34 CFR 75.118.

4. Performance Measures: The success of the Training Program is measured by its cost-effectiveness, based on the percentage of TRIO personnel receiving training each year and by the percentage of those receiving training who rate the training as highly useful. All grantees will be required to submit an annual performance report documenting their success in training TRIO personnel, including the average cost per trainee and the trainees' evaluations of the effectiveness of the training provided.

VII. Agency Contacts

FOR FURTHER INFORMATION CONTACT: Britt Jung (If unavailable, contact Dr. Linda Byrd-Johnson), U.S. Department of Education, 1990 K Street, NW., suite 7000, Washington, DC 20006-8510. Telephone: (202) 502-7600 or by e-mail: TRIO@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO); toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: January 27, 2006.
Sally L. Stroup,
Assistant Secretary for Postsecondary Education.

[FR Doc. E6-1421 Filed 2-1-06; 8:45 am]

BILLING CODE 4000-01-P